DEPARTMENT OF THE INTERIOR

National Park Service

[NPS-WASO-NAGPRA-NPS0036439; PPWOCRADN0-PCU00RP14.R50000]

Notice of Inventory Completion Amendment: University of Tennessee, Knoxville, Department of Anthropology, Knoxville, TN

AGENCY: National Park Service, Interior.

ACTION: Notice; amendment.

SUMMARY: In accordance with the Native American Graves Protection and Repatriation Act (NAGPRA), the University of Tennessee, Knoxville, Department of Anthropology (UTK) has amended a Notice of Inventory Completion in the Federal Register on December 21, 2018. This notice amends the number of associated funerary objects in a collection removed from Stewart County, TN.

DATES: Disposition of the human remains and associated funerary objects in this notice may occur on or after September 22, 2023.

ADDRESSES: Dr. Ozlem Kilic, University of Tennessee, Office of the Provost, 527 Andy Holt Tower, Knoxville, TN 37996-0152, telephone (865) 974-2454, email okilic@utk.edu and vpaa@utk.edu.

SUPPLEMENTARY INFORMATION: This notice is published as part of the National Park Service's administrative responsibilities under NAGPRA. The determinations in this notice are the sole responsibility of UTK. The National Park Service is not responsible for the determinations in this notice. Additional information on the amendments and determinations in this notice, including the results of consultation, can be found in the inventory or related records held by UTK.

Amendment

This notice amends the determinations published in a Notice of Inventory Completion in the Federal Register (83 FR 65722-65724, December 21, 2018). Disposition of the items in the original Notice of Inventory Completion has not occurred. An additional five associated funerary objects, from 40SW47, the Allen site, in Stewart County, TN, were discovered after publication of the notice. The 24 associated funerary objects (previously identified as 19) are two lots consisting of faunal remains, two lots consisting of lithics, one lot consisting of ceramics, one chert biface fragment, one chert core fragment, one chert drill fragment, one flint blade or knife, one granite nutting stone or bipolar anvil, seven chert projectile points, two chert uniface scrapers, four chert unutilized flakes (one primary; one secondary; two tertiary/thinning), and one chert flake or angular shatter.

Determinations (as Amended)

Pursuant to NAGPRA and its implementing regulations, and after consultation with the appropriate Indian Tribes, UTK has determined that:

• The human remains represent the physical remains of two individuals of Native American ancestry.

• The 24 objects are reasonably believed to have been placed with or near individual human remains at the time of death or later as part of the death rite or ceremony.

• No relationship of shared group identity can be reasonably traced between the human remains and associated funerary objects and any Indian Tribe.

• The human remains and associated funerary objects described in this notice were removed from the aboriginal land of the Cherokee Nation; Eastern Band of Cherokee Indians; The Chickasaw Nation; and the United Keetoowah Band of Cherokee Indians in Oklahoma.

Requests for Disposition

Written requests for disposition of the human remains and associated funerary objects in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains and associated funerary objects in this notice to a requestor may occur on or after September 22, 2023. If competing requests for disposition are received, UTK must determine the most appropriate requestor prior to disposition. Requests for joint disposition of the human remains and associated funerary objects are considered a single request and not competing requests. UTK is responsible for sending a copy of this notice to the Indian Tribes identified in this notice.

Authority: Native American Graves Protection and Repatriation Act, 25 U.S.C. 3003, and the implementing regulations, 43 CFR 10.9, 10.11, and 10.13.

Dated: August 16, 2023.
Melanie O'Brien,
Manager, National NAGPRA Program.

[FR Doc. 2023-18137 Filed 8-22-23; 8:45 am]

BILLING CODE 4312-52-P